DEPARTMENT OF STATE

[Public Notice No. 3222]

Advisory Committee on International Economic Policy Open Meeting Notice

The Advisory Committee on International Economic Policy (ACIEP) will meet from 9:00 a.m. to 1:00 p.m. on Thursday, March 16, 2000, in Room 1107, U.S. Department of State, 2201 C Street, NW, Washington, DC 20520. The meeting will be hosted by Committee Chairman R. Michael Gadbaw and by Under Secretary of State for Economic, Business, and Agricultural Affairs Alan P. Larson.

The ACIEP serves the U.S. Government in a solely advisory capacity concerning issues and problems in international economic policy. The objective of the ACIEP is to provide expertise and insight on these issues that are not available within the U.S. Government.

Topics for the March 16 meeting will be:

• Initiatives for the Global Information Economy

• US-Indian Economic Relations

• Biotechnology/Precautionary Principle

• Short Topics

—China—Prospects for WTO Accession

—OECD Anti-Bribery Convention and Anti-Corruption

—OECD Guidelines

—G-8 Summit—Issues and Impact

—Sanctions

—Foreign Affairs Resources

The public may attend these meetings as seating capacity allows. The media is welcome but discussions are off the record. Admittance to the Department of State building is by means of a pre-arranged clearance list. In order to be placed on this list, please provide your name, title, company or other affiliation if appropriate, social security number, date of birth, and citizenship to the ACIEP Executive Secretariat by phone at (202) 647-5968 or fax (202) 647-5713 (Attention: Arlene Nelson) by Tuesday, March 14, 2000. On the date of the meeting, persons who have registered should come to the 23rd Street entrance. One of the following valid means of identification will be required for admittance: a U.S. driver's license with photo, a passport, or a U.S. Government ID.

For further information, contact Arlene Nelson, ACIEP Secretariat, U.S. Department of State, Bureau of Economic and Business Affairs, Room 6828, Main State, Washington, DC 20520.

Dated: February 17, 2000.
William J. McGlynn,
Executive Secretary, Advisory Committee on International Economic Policy, U.S. Department of State.

[FR Doc. 00-4368 Filed 2-23-00; 8:45 am]

BILLING CODE 4710-07-P